FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning FEMA forms 81-68, Community Visit Report (CAV) and 81-69, Community Contact Report (CAC) used to gather information about the floodplain management activities of communities that participate in the National Flood Insurance Program.

SUPPLEMENTARY INFORMATION: The National Flood Insurance Act of 1968 established the NFIP. Section 1315 of the Act requires the adoption of permanent land use and control measures, which is consistent with the comprehensive criteria of land management and use, under section 1361. 44 CFR 59.24 establishes requirements for continued eligibility to participate in the NFIP based upon implementing an adequate community based floodplain management program. The information gathered on FEMA Forms 81-68, Community Visit Report (CAV) and 81-69, Community Contact Report (CAC) is used to evaluate the adequacy of a community's floodplain management program, as it relates to continued participation in the NFIP.

Collection of Information

Title: Effectiveness of a Community's Implementation of the NFIP, Community Assistant Contact (CAC) Report and Community Assistant Visit (CAV) Report.

Type of Information Collection: Revision of a currently approved collection.

OMB Number: 3067-0198.

Form Numbers: FEMA Form 81-68, Community Contact Report (CAC); FEMA Form 81-68, Community Visit Report (CAV).

Abstract: FEMA's Community Assistant Program (CAP) is designed to assure that communities participating in the NFIP are achieving the flood loss reduction objectives of the program. The CAP also provides needed floodplain management assistance services to NFIP communities to identify, prevent, and resolve floodplain management issues before they develop into problems requiring enforcement actions. The Community Assistant Contact (CAC) is a telephone contact or brief visit with a NFIP community to determine if program-related problems exist and offer assistance. The Community Assistant Visit (CAV) is a scheduled visit with a NFIP community for the purpose of conducting a comprehensive assessment of the community's floodplain management program and to assist the community in understanding the NFIP and its requirements and implementing effective flood loss reduction measures.

Affected Public: Federal Government and State, Local and Tribal Government.

Estimated Total Annual Burden Hours:

FEMA forms | Number of respondents (A) | Frequency of response (B) | Hours per response (C) | Annual burden hours (A × B × C)
81-68 (CAV) | 2,000 | 1 per community | 3 hours | 6,000
81-69 (CAC) | 3,000 | 1 per community | 2 hour | 6,000
Total | 5,000 |  |  | 12,000

Estimated Cost. It is estimated that $319,920 is the annualized cost to respondents for the hour burdens for collecting data. (12,000 burden hours × $26.66 per hour = $319,920. Based upon respondent wage of $20.00 per hour plus 33.3% overhead and fringe benefit.)

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Bill Lesser, Program Specialist, IM-MP-CA, (202) 646-2807 for additional information. You may contact Ms. Anderson for copies of the proposed collection of information at telephone number (202) 646-2625 or facsimile number (202) 646-3347 or e: mail muriel.Anderson@fema.gov

Dated: May 29, 2001.
Reginald Trujillo,
Branch Chief, Program Services and Systems Branch, Facilities Management and Services Division, Administration and Resource Planning Directorate.

[FR Doc. 02-14260 Filed 6-6-02; 8:45 am]

BILLING CODE 6718-01-P